DEPARTMENT OF JUSTICE

Antitrust Division

Notice Pursuant to the National Cooperative Research and Production Act of 1993—Biopharmaceutical Manufacturing Preparedness Consortium

Notice is hereby given that, on April 12, 2024, pursuant to section 6(a) of the National Cooperative Research and Production Act of 1993, 15 U.S.C. 4301 et seq. (“the Act”), Biopharmaceutical Manufacturing Preparedness Consortium (“BIOMAP-CONSORTIUM”) has filed written notifications simultaneously with the Attorney General and the Federal Trade Commission disclosing changes in its membership. The notifications were filed for the purpose of extending the Act's provisions limiting the recovery of antitrust plaintiffs to actual damages under specified circumstances.

Specifically, A-line, Inc., Signal Hill, CA; API Innovation Center, St. Louis, MO; AVS Bio, Norwich, CT; Advanced Concept Innovations, Lakeland, FL; Afton Scientific, Charlottesville, VA; Alchem Laboratories Corp., Alachua, FL; AmerStem, Inc., Camarillo, CA; American Medicines Company, PBC, Davisville, WV; American Type Culture Collection, Manassas, VA; Amyris, Inc., Emeryville, CA; AntoXa Corp., Toronto, CANADA; Apertus Pharmaceuticals LLC, Ballwin, MO; Argonaut Manufacturing Services, Inc., Carlsbad, CA; Asha Therapeutics LLC, Tampa, FL; Attogene Corp., Austin, TX; BASF Corp., Florham Park, NJ; BCG Federal Corp., Washington, DC; BDO Public Sector LLC, McLean, VA; Batavia Biosciences, Inc., Woburn, MA; Benuvia Operations LLC, Round Rock, TX; Bionova Scientific LLC, Fremont, CA; Biosortia Pharmaceuticals, Inc., Dublin, OH; Black Mesa Technology, Inc., Bedford, MA; Blu Zone Bioscience & Supply Chain Solutions, LLC, Frederick, MD; Bracane Company, Inc., Plano, TX; CGCN, Washington, DC; CMC Pharmaceuticals, Inc., Solon, OH; Capra Biosciences, Inc., Manassas, VA; ChromaTan, Inc., Lower Gwynedd, PA; Concept to Market LLC, Monrovia, MD; Cornerstone Chemical Company, Metairie, LA; Corning, Inc., Corning, NY; CuriRx, Inc., Wilmington, MA; DEKA Research & Development Corp., Manchester, NH; DMC Biotechnologies, Inc., Boulder, CO; Dyadic International, Inc., Jupiter, FL; EriVan Bio, Alachua, FL; EverGlade Consulting LLC, Houston, TX; Evimero, Tuscaloosa, AL; FUJIFILM Diosynth Biotechnologies USA, Inc., Morrisville, NC; Fisher BioServices, Inc., Rockville, MD; Foamtec International LLC, Waco, TX; Fraunhofer USA, Plymouth, MI; HDT Bio Corp., Seattle, WA; HERMES, LLC, Wilmington, NC; Health Blockchain Convergence, Inc., Tysons Corner, VA; INTACT SOLUTIONS LLC, New Milford, CT; InflaRx GmbH, Jena, GERMANY; Interbiome Partners LLC, Rockville, MD; Jubilant HollisterStier CMO, Spokane, WA; Kemp Proteins, Frederick, MD; LaCire LLC, Alexandria, VA; Latham BioPharm Group, Elkridge, MD; MalarVx, Inc., Seattle, WA; Mallinckrodt Specialty Generics dba SpecGx LLC, Webster Groves, MO; Manus Bio, Inc., Waltham, MA; Medical Countermeasures Coalition, Washington, DC; Meissner Filtration Products, Inc., Camarillo, CA; Michael Best Strategies, Washington, DC; MilliporeSigma, Burlington, MA; Nature's Toolbox, Inc., Rio Rancho, NM; New Horizon Biotech, Inc., Nazareth, PA; NewAge Industries, Inc., Southampton, PA; Nipro PharmaPackaging Americas Corp., Millville, NJ; On Demand Pharmaceuticals, Inc., Rockville, MD; PPD Development, L.P., Wilmington, NC; Par Sterile Product LLC, Rochester, MI; PharmaJet, Golden, CO; Phlow Corp., Richmond, VA; Prestige Ameritech, Ltd., North Richland Hills, TX; ProQuality Network LLC, Dorado, PUERTO RICO; Proteios Technology, Inc., Issaquah, WA; Quantum Four Labs LLC, Arcadia, CA; SANARIA, Inc., Rockville, MD; SCHOTT Pharma USA, Inc., Lebanon, PA; SK Pharmteco, Rancho Cordova, CA; STERIS Corp., Mentor, OH; Scorpius Biomanufacturing, Inc., San Antonio, TX; Sentio BioSciences LLC, Maryland Heights, MO; Sepragen Corp., Union City, CA; Shabas Solutions LLC, Fairfax, VA; Societal CDMO Inc., Gainesville, GA; Sotera Health Company, Broadview Heights, OH; Southwest Research Institute, San Antonio, TX; Strategic Marketing Innovations, Washington, DC; TEGA Therapeutics, Inc., San Diego, CA; TFF Pharmaceuticals, Inc., Fort Worth, TX; Tenagrity Solutions LLC, Fairfax, VA; Texas A&M Engineering Experiment Station, Bryan, TX; Texas Biomedical Research Institute, San Antonio, TX; Thaddeus Medical Systems, Inc., Rochester, MN; The United States Pharmacopeial Convention, Inc., Rockville, MD; Third Pole, Inc., Waltham, MA; Tonix Pharmaceuticals Holding Corp., Chatham, NJ; TriLink BioTechnologies LLC, San Diego, CA; US Specialty Formulations, Allentown, PA; University of Delaware, Newark, DE; Vaxess Technologies, Inc., Cambridge, MA; Wheeler Bio, Inc., Oklahoma City, OK; and Zalgen Labs LLC, Frederick, MD, have been added as parties to this venture.

No other changes have been made in either the membership or planned activity of the group research project. Membership in this group research project remains open, and the BIOMAP-CONSORTIUM intends to file additional written notifications disclosing all changes in membership.

On January 5, 2024, the BIOMAP-CONSORTIUM filed its original notification pursuant to section 6(a) of the Act. The Department of Justice published a notice in the Federal Register pursuant to section 6(b) of the Act on April 16, 2024 (89 FR 26923).

Suzanne Morris,
Deputy Director Civil Enforcement Operations, Antitrust Division.

[FR Doc. 2024-13621 Filed 6-20-24; 8:45 am]

BILLING CODE P